DEPARTMENT OF TRANSPORTATION

Federal Railroad Administration

[Docket Number FRA-2016-0034]

Petition for Waiver of Compliance

In accordance with part 211 of Title 49 of the Code of Federal Regulations (CFR), this document provides the public notice that by a document dated April 8, 2016, Portland and Western Railroad (PNWR), owned by Genesee & Wyoming, has petitioned the Federal Railroad Administration (FRA) for a waiver of compliance from certain provisions of the Federal railroad safety regulations contained at 49 CFR 213.234, Automated inspection of track constructed with concrete crossties. FRA assigned the petition Docket Number FRA-2016-0034.

PNWR requests a waiver of compliance from 49 CFR 213.234(b)(3), which requires an annual automated inspection of track constructed with concrete crossties. PNWR's proposal identifies a 16.8-mile segment of track constructed with concrete crossties and indicates that 160 commuter trains per week operate over it, as well as an annual 5 million gross tons of freight traffic.

PNWR submits that because there is relatively light wheel loading of commuter trains, which are limited to 60 mph, and freight operations, due to a 40 mph speed limit, it is unnecessary to conduct annual automated inspections on this concrete crosstie segment. In lieu of annual automated inspection, PNWR proposes to (1) provide annual training and inspection procedures to identify and report exceptions to conditions described in 49 CFR 213.109(d)(4) involving all 213.7-qualified persons responsible for supervision and inspection of the TriMet Westside Express Service track segment; (2) conduct bi-annual walking inspections to detect noncompliant track conditions including rail seat deterioration; and (3) supplement walking inspection with twice-annual inspections with a hi-rail vehicle instrumented with a Track Geometry Measurement System.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 27, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-11215 Filed 5-11-16; 8:45 am]

BILLING CODE 4910-06-P